DEPARTMENT OF DEFENSE

Office of the Secretary

Delegation of Settlement Authority Under the Federal Tort Claims Act

AGENCY: Office of the Secretary, DoD.

ACTION: Notice.

SUMMARY: Pursuant to Department of Justice Civil Division Directive (28 CFR part 14) and 10 U.S.C. 113(d), the Secretary of Defense has delegated to the Secretaries of the Army, Navy, and Air Force the authority to adjust, determine, compromise, and settle administrative claims involving their respective Military Departments under 28 U.S.C. 2672 (relating to the administrative settlement of Federal tort claims), if the amount of the proposed settlement, compromise, or award does not exceed $300,000.

The Delegation to the Secretary of the Army includes the authority to adjust, determine, compromise, and settle administrative claims arising out of the acts or omissions of civilian personnel of DoD Components other than the Military Departments in accordance with DoD Directive 5515.9, “Settlement of Tort Claims,” April 19, 2004.

The authority delegated above may be re-delegated in writing.

FOR FURTHER INFORMATION CONTACT: Ms Patricia Toppings, WHS/ESD Information Management Division, 1777 North Kent Street, Rosslyn Plaza North, Suite 11000, Arlington, VA 22209-2133.

Dated: March 12, 2009.
Patricia L. Toppings,
OSD Federal Register Liaison Officer, Department of Defense.

[FR Doc. E9-5709 Filed 3-16-09; 8:45 am]

BILLING CODE 5001-06-P